DEPARTMENT OF HEALTH AND HUMAN SERVICES

Health Care Financing Administration

42 CFR Parts 413 and 422

[HCFA-1685-F2]

RIN 0938-AE79

Medicare Program; Payment for Nursing and Allied Health Education: Delay of Effective Date

AGENCY: Health Care Financing Administration (HCFA), HHS.

ACTION: Final rule; delay of effective date.

SUMMARY: In accordance with the memorandum of January 20, 2001, from the Assistant to the President and Chief of Staff, entitled “Regulatory Review Plan,” published in the January 24, 2001 Federal Register, this action temporarily delays for 60 days the effective date of the rule entitled “Payment for Nursing and Allied Health Education” published in the January 12, 2001 Federal Register (66 FR 3358). That final rule sets forth in regulations Medicare policy for the payment of costs of approved nursing and allied health education programs and clarifies the payment methodology for certified registered nurse anesthetist education programs. To the extent that 5 U.S.C. section 553 applies to this action, it is exempt from notice and comment because it constitutes a rule of procedure under 5 U.S.C. section 553 (b) (A). Alternatively, HCFA's implementation of this rule without opportunity for public comment, effective immediately upon publication today in the Federal Register, is based on the good cause exceptions in 5 U.S.C. section 553 (b) (B) and 553 (d) (3), in that seeking public comment and delaying the effective date of this final rule is impracticable, and contrary to the public interest.

The temporary 60-day delay in the effective date is necessary to give Department officials the opportunity for further review and consideration of regulations that had been published in the Federal Register as of January 20, 2001 but had not yet taken effect as of that date, consistent with the Assistant to the President's memorandum of January 20, 2001. Given the imminence of the effective date, seeking prior public comment on this temporary delay would have been impracticable, as well as contrary to the public interest, in the orderly promulgation and implementation of regulations.

DATES: The effective date of the final rule, Payment for Nursing and Allied Health Education, published in the Federal Register on January 12, 2001 (66 FR 3358), is delayed for 60 days, from March 13, 2001 to a new effective date of May 14, 2001.

FOR FURTHER INFORMATION CONTACT: Rebecca Hirshorn, (410) 786-3411.

(Catalog of Federal Domestic Assistance Program No. 93.773 Medicare—Hospital Insurance and Program; No. 93.774, Medicare—Supplementary Medical Insurance Program)

Dated: February 27, 2001.
Michael McMullan,
Acting Deputy Administrator, Health Care Financing Administration.
Approved: March 8, 2001.
Tommy G. Thompson,
Secretary.

[FR Doc. 01-6194 Filed 3-9-01; 8:45 am]

BILLING CODE 4120-01-P